DEPARTMENT OF THE INTERIOR

National Park Service

[NPS-WASO-NAGPRA-NPS0038706; PPWOCRADN0-PCU00RP14.R50000]

Notice of Intended Repatriation: University of California, Berkeley, Berkeley CA

AGENCY: National Park Service, Interior.

ACTION: Notice.

SUMMARY: In accordance with the Native American Graves Protection and Repatriation Act (NAGPRA), the University of California, Berkeley intends to repatriate a certain cultural item that meets the definition of a sacred object and an object of cultural patrimony and that has a cultural affiliation with the Indian Tribes or Native Hawaiian organizations in this notice.

DATES: Repatriation of the cultural item in this notice may occur on or after October 15, 2024.

ADDRESSES: Alexandra Lucas, Repatriation Coordinator, Government and Community Relations (Chancellor's Office), University of California, Berkeley, 200 California Hall, Berkeley, CA 94720, telephone (510) 570-0964, email nagpra-ucb@berkeley.edu.

SUPPLEMENTARY INFORMATION: This notice is published as part of the National Park Service's administrative responsibilities under NAGPRA. The determinations in this notice are the sole responsibility of the University of California, Berkeley, and additional information on the determinations in this notice, including the results of consultation, can be found in the summary or related records. The National Park Service is not responsible for the determinations in this notice.

Abstract of Information Available

A total of one cultural item has been requested for repatriation. The sacred object and object of cultural patrimony is a Kyôiñ (war shield) estimated to have been created in 1792 by Black Horse (catalog number 2-4866a,b and formerly named Satanta's Shield). Black Horse passed guardianship of the Kyôiñ to his son Sét:t'áiñ:dè, who passed guardianship of the Kyôiñ to his son Grey Goose between 1872 and 1874. US Cavalry Captain Hugh Lenox Scott obtained the Kyôiñ from Grey Goose in 1894, purportedly through Grey Goose's will. Phoebe Apperson Hearst purchased the Kyôiñ along with 200 other Plains Indian objects from Hugh Knox in 1901. Kiowa people know the Kyôiñ to be the temporary residence of a spirit, and while cared for by individual caretakers entrusted by the Kyôiñ, as a spirit it cannot be individually owned. The Kyôiñ has held a vital ceremonial and protective role in the Kiowa Tribe of Oklahoma since its creation. Since 2000, the Kyôiñ has been on loan from the Phoebe A Hearst Museum of Anthropology to the U.S Army Fort Sill National Historic Landmark and Museum in Oklahoma to ensure its continued access by Kiowa people and inclusion in ceremony and cultural practice.

Collections and collection spaces at the Phoebe A Hearst Museum of Anthropology were treated with substances for preservation and pest control, some potentially hazardous. No records have been found to date at the Museum to indicate whether or not chemicals or natural substances were used prior to 1960. No chemicals are recorded to have been applied while on loan to the U.S. Army Fort Sill National Historic Landmark and Museum.

Determinations

The University of California, Berkeley has determined that:

• The one sacred object/object of cultural patrimony described in this notice is, according to the Native American traditional knowledge of an Indian Tribe or Native Hawaiian organization, a specific ceremonial object needed by a traditional Native American religious leader for present-day adherents to practice traditional Native American religion, and have ongoing historical, traditional, or cultural importance central to the Native American group, including any constituent sub-group (such as a band, clan, lineage, ceremonial society, or other subdivision).

• There is a reasonable connection between the cultural item described in this notice and the Kiowa Indian Tribe of Oklahoma.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after October 15, 2024. If competing requests for repatriation are received, the University of California, Berkeley must determine the most appropriate requestor prior to repatriation. Requests for joint repatriation of the cultural item are considered a single request and not competing requests. The University of California, Berkeley is responsible for sending a copy of this notice to the Indian Tribes and Native Hawaiian organizations identified in this notice and to any other consulting parties.

Authority: Native American Graves Protection and Repatriation Act, 25 U.S.C. 3004 and the implementing regulations, 43 CFR 10.9.

Dated: September 5, 2024.
Melanie O'Brien,
Manager, National NAGPRA Program.

[FR Doc. 2024-20875 Filed 9-12-24; 8:45 am]

BILLING CODE 4312-52-P